DEPARTMENT OF JUSTICE

Notice of Lodging of Modification to Consent Decree

In accordance with Departmental Policy, 28 CFR 50.7, notice is hereby given that a Modification to Consent Decree in United States v. Robert R. Krilich, et al., Civ. No. 92 C 5354, was lodged with the United States District Court for the Northern District of Illinois on February 16, 2006. This Modification to Consent Decree concerns a complaint filed by the United States against Defendants, pursuant to Sections 301 and 404 of the Clean Water Act, 33 U.S.C. 1311, 1344 to obtain injunctive relief from the Defendants for violating the Clean Water Act by discharging pollutants without a permit into waters of the United States.

The Modification to Consent Decree resolves Defendants' inability to meet the success criteria of the Consent Decree for a portion of the mitigation site.

The Department of Justice will accept written comments relating to this Modification to Consent Decree for thirty (30) days from the date of publication of this Notice. Please address comments to David A. Carson, Senior Counsel, United States Department of Justice, Environment and Natural Resources Division, Environmental Defense Section, 999 18th Street, Suite 945, North Tower, Denver, CO 80202 and refer to United States v. Robert R. Krilich, DJ 90-5-1-1-3405.

The Modification to Consent Decree may be examined at the Clerk's Office, United States District Court for the Northern District of Illinois, Eastern Division, 219 South Dearborn Street, Chicago, Ill. In addition, the Modification to Consent Decree may be viewed at http://www.usdoj.gov/enrd/open.html.

Dated: February 23, 2006.
Scott Schachter,
Assistant Chief, Environmental Defense Section, Environment & Natural Resources Division.

[FR Doc. 06-1923 Filed 3-1-06; 8:45 am]

BILLING CODE 4410-15-M